ENVIRONMENTAL PROTECTION AGENCY

40 CFR Part 30

[EPA-HQ-OA-2018-0259; FRL-10007-88-ORD]

RIN 2080-AA14

Strengthening Transparency in Regulatory Science

AGENCY: Environmental Protection Agency (EPA).

ACTION: Supplemental notice of proposed rulemaking; extension of comment period.

SUMMARY: The Environmental Protection Agency (EPA) is extending the comment period for a notice issued in the Federal Register on March 18, 2020, supplemental notice of proposed rulemaking (SNPRM) titled “Strengthening Transparency in Regulatory Science.” This document is extending the comment period on this SNPRM from April 17, 2020, to May 18, 2020.

DATES: Comments must be received on or before May 18, 2020.

ADDRESSES: You may send comments, identified by Docket ID No. EPA-HQ-OA-2018-0259, by the following method:

• Federal eRulemaking Portal: https://www.regulations.gov/ (our preferred method). Follow the online instructions for submitting comments.

Instructions: All submissions received must include the Docket ID No. for this rulemaking. Comments received may be posted without change to https://www.regulations.gov/, including any personal information provided.

Out of an abundance of caution for members of the public and our staff, the EPA Docket Center and Reading Room will be closed to public visitors beginning at the close of business on March 31, 2020 (4:30 p.m.) to reduce the risk of transmitting COVID-19. Our Docket Center staff will continue to provide remote customer service via email, phone, and webform. We encourage the public to submit comments via https://www.regulations.gov or email, as there will be a delay in process mail and no hand deliveries will be accepted. For further information on EPA Docket Center services, please visit us online at https://www.epa.gov/dockets.

FOR FURTHER INFORMATION CONTACT: Cheryl A. Hawkins, Office of Science Advisor, Policy and Engagement (8104R), Environmental Protection Agency, 1200 Pennsylvania Ave. NW, Washington, DC 20460; telephone number: (202) 564-7307; email address: osp_staff@epa.gov.

SUPPLEMENTARY INFORMATION: On March 18, 2020, EPA published a supplemental notice of proposed rulemaking (SNPRM) titled “Strengthening Transparency in Regulatory Science” (85 FR 15396), which includes clarifications, modifications and additions to certain provisions in the Strengthening Transparency in Regulatory Science Proposed Rulemaking, published on April 30, 2018 (83 FR 18768). The SNPRM proposed that the scope of the rulemaking apply to influential scientific information as well as significant regulatory decisions. That notice proposed definitions and clarified that the proposed rulemaking would apply to data and models underlying both pivotal science and pivotal regulatory science. In the SNPRM, EPA also proposed a modified approach to the public availability provisions for data and models that would underly significant regulatory decisions and an alternate approach. Finally, EPA requested comment on whether to use its housekeeping authority independently or in conjunction with appropriate environmental statutory provisions as authority for the rulemaking.

This document extends the public comment period for the proposed rule to ensure that the public has sufficient time to review and comment on the proposal.

Dated: April 2, 2020.
Mary Ross,
Director, Office of Science Advisor, Policy and Engagement.

[FR Doc. 2020-07348 Filed 4-16-20; 8:45 am]

BILLING CODE 6560-50-P